SOCIAL SECURITY ADMINISTRATION

[Docket No. SSA-2012-0007]

Notice of Solicitation of Public and Federal Agency Comments for Collaboration on Evaluating the World Health Organization (WHO) International Classification of Functioning, Disability and Health (ICF) Standard for Coding Functional Capability in Federal Programs

AGENCY: Social Security Administration.

ACTION: Notice of solicitation for collaboration.

SUMMARY: We are seeking information and comments from other Federal agencies' regarding their intention to use the WHO ICF ¹ as a standard for coding functional capacity with broad potential for application to the business processes of other Federal agencies and researchers throughout the world. We invite other interested Federal agencies involved in disability monitoring to collaborate with us to evaluate an ICF-based standard for coding functional capacity in Federal disability programs. We also invite interested public and private parties to comment on appropriate Federal direction on capturing data on functioning.

¹ WHO ICF link: http://apps.who.int/classifications/icfbrowser/

DATES: To ensure that your comments are considered, we must receive them no later than March 4, 2013.

ADDRESSES: You may submit comments by any one of three methods—Internet, fax, or mail. Do not submit the same comments multiple times or by more than one method. Regardless of which of the following methods you choose, please state that your comments refer to Docket No. SSA-2012-0007 so that we may associate your comments with the correct document.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function of the Web page to find docket number SSA-2012-0007. The system will issue you a tracking number to confirm your submission. It may take up to one week for your comment to be viewable.

2. Fax: Fax comments to (410) 966-2830.

3. Mail: Mail your comments to the Office of Regulations, Social Security Administration, 107 Altmeyer Building, 6401 Security Boulevard, Baltimore, Maryland 21235-6401.

FOR FURTHER INFORMATION CONTACT: Rosemary Hall, Social Security Administration, Office of Disability Programs, 6401 Security Boulevard, Baltimore, MD 21235-6401, (410) 965-5021. For information on eligibility or filing for benefits, call our national toll-free number, 1-800-772-1213 or TTY 1-800-325-0778, or visit our Internet site, Social Security Online, at http://www.socialsecurity.gov.

SUPPLEMENTARY INFORMATION: The WHO ICF is a classification of health and health-related domains, including a list of body functions and a list of domains of activity and participation (see www.who.int/classification/icf/en/). The ICF for Children and Youth (ICF-CY) is a derived version of the ICF designed to record characteristics of the developing child and the influence of environments surrounding the child. The ICF and the ICF-CY reflect WHO's framework for measuring health and disability at both individual and population levels.

Multiple organizations have officially supported the ICF.

• In May 2001, the 191 WHO Member States officially endorsed it for their use as the international standard to describe and measure health and disability.

• The WHO members accepted ICF-CY on October 31, 2006.

• The Institute of Medicine (IOM) supports the use of ICF to help standardize how agencies describe and measure different aspects of disability. In its 2007 report, “The Future of Disability in America,” the IOM encouraged Federal agencies involved in disability monitoring to adopt the ICF as their conceptual framework.²

² Institute of Medicine (IOM). 2007. The Future of Disability in America. Washington, DC: The National Academies Press.

• The Health Information Technology (HIT) Policy Committee, a public advisory body on HIT to the Office of the National Coordinator for Health Information Technology of the U.S. Department of Health & Human Services, recently recommended the ICF, along with Systematized Nomenclature of Medicine-Clinical Terms (SNOMED-CT) and Logical Observation Identifiers Names and Codes (LOINC), for reporting clinical quality measures on the concept of functional status.³

³ U.S. Department of Health & Human Services, Health IT Standards Committee, A Public Advisory Body on Health Information Technology to the National Coordinator for Health IT, Transmittal Letter. September 9, 2011. Available at: http://healthit.hhs.gov/portal/server.pt/gateway/PTARGS_0_12811_955546_0_0_18/HITSC_CQMWG_VTF_Transmit_090911.pdf.

We are studying several uses for ICF coding. We could use it, for example, to describe function in activities of daily living, to describe residual functional capacity (to satisfy a specific set of disability criteria), or to develop a compendium of job descriptions that includes mental and physical functional requirements.

We invite comment on this notice from members of the public and from Federal agencies. We also request that Federal agencies involved in making disability assessments share information with us regarding their review of the ICF as a standard for coding functional capacity, and we invite them to collaborate with us in evaluation of the ICF for use in the business process for Federal disability programs.

Arthur R. Spencer,
Associate Commissioner, Office of Disability Programs.

[FR Doc. 2012-31479 Filed 12-31-12; 8:45 am]

BILLING CODE 4191-02-P